NATIONAL AERONAUTICS AND SPACE ADMINISTRATION

48 CFR Parts 1812, 1813, 1816, 1819, 1823, 1832, and 1852

[Notice: (23-089)]

RIN 2700-AE71

Federal Acquisition Regulation Supplement: Revision of the Definition of “Commercial Item” (NFS Case 2022-N003); Correction

AGENCY: National Aeronautics and Space Administration.

ACTION: Final rule; correction.

SUMMARY: National Aeronautics and Space Administration (NASA) is correcting a final rule that appeared in the Federal Register on September 19, 2023. The document issued was to conform the NASA FAR Supplement (NFS) to changes in the Federal Acquisition Regulation (FAR) that reflect an updated “commercial item” definition pursuant to a section of the John S. McCain National Defense Authorization Act (NDAA) for Fiscal Year (FY) 2019.

DATES: Effective October 19, 2023.

FOR FURTHER INFORMATION CONTACT: Andrew O'Rourke, NASA HQs, Office of Procurement Management and Policy Division, LP-011, 300 E Street SW, Washington, DC 20456-0001. Telephone 202-358-4560; facsimile 202-358-3082.

SUPPLEMENTARY INFORMATION: In FR Doc. 2023-17720 appearing on page 64384 in the Federal Register of Tuesday, September 19, 2023, the following corrections are made:

PARTS 1812, 1813, 1816, 1819, 1823, 1832, and 1852—[Corrected]

1. On page 64385, in the second column, in amendment 2, the instruction “In parts 1812, 1816, 1819, 1823, 1832, and 1852 revise all references to “Commercial Items” to read “Commercial Products and Commercial Services” ” is corrected to read “In parts 1812, 1813, 1816, 1819, 1823, 1832, and 1852 revise all references to “Commercial Items” to read “Commercial Products and Commercial Services.” ”

Dated: October 10, 2023.
Erica Jones,
NASA FAR Supplement Manager.

[FR Doc. 2023-22651 Filed 10-12-23; 8:45 am]

BILLING CODE 7510-13-P